DEPARTMENT OF DEFENSE

Department of the Navy

Notice of Performance Review Board Membership

AGENCY: Department of the Navy, DOD.

ACTION: Notice.

SUMMARY: Pursuant to 5 U.S.C. 4314(c)(4), the Department of the Navy (DON) announces the appointment of members to the DON's numerous Senior Executive Service (SES) Performance Review Boards (PRBs). The purpose of the PRBs is to provide fair and impartial review of the annual SES performance appraisal prepared by the senior executive's immediate and second level supervisor; to make recommendations to appointing officials regarding acceptance or modification of the performance rating; and to make recommendations for monetary performance awards. Composition of the specific PRBs will be determined on an ad hoc basis from among individuals listed below:

ALTWEGG, D.M. MR.

AMERAULT, J.F. VADM

ANTOINE, C.S. MR.

BAILEY, W.C. MR.

BAUGH, D. E. RADM

BAUMAN, D. M. MR.

BECRAFT, C. H. HON.

BLICKSTEIN, I. N. MR.

BONWICH, S. M. MR.

BOYD, W. R. MR.

BOYER, R. R. MR.

BRANT, D. L. MR.

BROWN, P. F. MR.

BUCHANAN III, H. L. HON.

BUONACCORSI, P. P. MR.

CALI, R. T. MR.

CAMP, J. R. MR.

CARPENTER, A. W. MS.

CASSIDY JR, W. J. MR.

CATRAMBONE, G. P. MR.

CHURCH, A. T. RADM

CIESLAK, R. C. MR.

CIPRIANO, J. MR.

COCHRANE JR, E. R. MR.

COFFEY, T. DR.

COHEN, J. M. RADM

COHN, H. MR.

COLE, D. A. MR.

COMMONS, G. L. MS.

COOK, J. RADM.

CRABTREE, T. R. MR.

CUDDY, J. V. MR.

DANZIG, R. HON.

DAVIDSON, M. H. MR.

DAVIS, J. P. RADM

DEMARCO, R. DR.

DIXSON, H. L. MR.

DRAIM, R. P. MR.

DOHERTY, L. M. DR.

DOWD, T. K. MR.

DUDLEY, W. S. DR.

DURHAM, D. L. DR.

DWYER, D. RADM

EATON, W. D. MR.

EHRLER, S. M. MR.

ELLIS, W. G. MR.

ESSIG, T. W. MR.

EVANS, G. L. MS.

FEIGLEY, J. M. BGEN

FIELDS, A. MAJGEN

FILIPPI, D. M. MS.

FIOCCHI, T. C. MR.

FLORIP, T. F. MR.

FORD, F. B. MR.

FRANKEN, D. J. MR.

GERRY, D. F. MR.

GISCH, R. G. MR.

GLASCO, L. M. MR.

GOTTFRIED, J. M. MS.

GREENERT, J. W. RADM

GUARD, H. DR.

HAGEDORN, G. D. MR.

HAMMES, M. C. MR.

HAMMOND, R. E. MR.

HANNAH, B. W. DR.

HARTWIG, E. DR.

HAUENSTEIN, W. H. MR.

HAYNES, R. S. MR.

HEATH, K. S. MS.

HEFFERON, J. J. MR.

HENRY, M. G. MR.

HICKS, S. N. MR.

HIGGINS, K. L. DR.

HILDEBRANDT, A. H. MR.

HOLADAY, D. A. MR.

HOWELL, D. S. MS.

HOWIE, H. K. MR.

HUBBELL, P. C. MR.

HULTIN, J. M. HON.

JENKINS, H. G. RADM

JOHNSTON, B. RADM

JOHNSTON, K. J. DR.

JOSEPHSON, D. H. MS.

JUNKER, B. DR.

KASKIN, J. D. MR.

KEIL, J. G. MR.

KELLY, L. J. MR.

KELSEY, H. D. MR.

KEMP, C. RADM.

KLEINTOP, M. U. MS.

KLIMP, J. W. LTGEN

KNUDSEN, R. E. MR.

KOLB, R. C. DR.

KOTZEN, P. S. MS.

KRASIK, S. A. MS.

KREITZER, L. P. MR.

LACEY, M. E. MRS.

LAMADE, S. K. MS.

LAUX, T. E. MR.

LEACH, R. A. MR.

LEBOEUF, G. G. MR.

LEE, JR., P. M. MAJGEN

LEFANDE, R. DR.

LEGGIERI, S. R. MS.

LEKOUDIS, S. DR.

LEWIS, R. D. MS.

LIPPERT, K. W. RADM

LISIEWSKI, R. S. MR.

LOFTUS, J. V. MS.

LONG, L. MS.

LOOSE, M. K. RADM

LOPATA, F. A. MR.

LOWELL, P. M. MR.

LYNCH, J. G. MR.

MALTBIE JR, W. F. MR.

MARQUIS, S. L. DR.

MARTIN, R. J. MR.

MASCIARELLI, J. R. MR.

MASHBURN, JR., H. MAJGEN

MATTHEIS, W. G. MR.

MCELENY, J. F. MR.

MCKISSOCK, G. S. LTGEN

MCMANUS, C. J. MR.

MCNAIR, J. W.

MEADOWS, L. J. MS.

MELCHER, G. K. MR.

MERRITT, D. L. MR.

MERRITT, M. M. MR.

MESEROLE JR., M. MR.

MILAN, L. F. MR.

MILLER, K. E. MR.

MOHLER, M. K. MR.

MOLZAHN, W. R. MR.

MONTGOMERY JR., H. E. MR.

MOORE, S. B. MR.

MOREHOUSE, B. L. MS.

MOY, J. W. MR.

MUNSELL, E. L. MS.

MURPHY, P. M. MR.

MUTH, C. C. MS.

NEERMAN, D. W. MR.

NEHMAN, J. MR.

NEMFAKOS, C. P. MR.

NEWTON, L. A. MS.

NICKELL JR, J. R. MR.

O'DRISCOLL, M. J. MR.

OLSEN, M .A. MS.

PANEK, R. L. MR.

PAULK, R. D. MS.

PAYNE, T. MR.

PENNISI, R. A. MR.

PERSONS, B. J. MR.

PHELPS, F. A. MR.

PIRIE JR, R. B. HON.

POLZIN, J. E. MR.

PORTER, D. E. MR.

POWERS, B. F. MR.

PRESTON, S. W. HON.

PRINE, R. MR.

RAMBERG, S. DR.

RANDALL, S. R. MR.

RATH, B. DR.

RAU, D. CAPT

RHODES, J. E. LTGEN

ROARK JR., J. E. MR.

ROBUSTO, J. D. MR.

ROUTE, R. A. RADM

RIEGEL, K .W. DR.

ROBERSON, E. S. MS.

RODERICK, B. A. MR.

ROSSI, D. MR.

RYZEWIC, W. H. MR.

SAALFELD, F. DR.

SANDEL, E. A. MS.

SANDERS, R. L. MS.

SAUL, E. L. MR.

SAVITSKY, W. D. MR.

SCHAEFER, J. C. MR.

SCHAEFER JR, W. J. MR.

SCHNEIDER, P. A. MR.

SCHUBERT, D. CAPT

SCHUSTER JR., J. G. MR.

SHEA, R. M. BGEN

SHEPHARD, M. R. MS.

SHOUP, F. E. DR.

SIRMALIS, J. E. DR.

SLOCUM, W. S. MR.

SMITH JR, R. C. RADM

SOMOROFF, A. R. DR.

SPARKS JR, J. E. MR.

SPINRAD, R. DR.

STELLOH-GARNER, C. MS.

STOREY, R. C. MR.

STUSSIE, W. A. MR.

SZEMBORSKI, S. R. RADM

TAMBURRINO, P. M. MR.

TARRANT, N. J. MS.

THOMAS, J. R. BGEN

THOMAS, R. O. MR.

THROCKMORTON JR., E. L. MR.

TISONE, A. A. MR.

TOWNSEND, D. K. MS.

TRAMMELL, R. K. MR.

TURNER, R. F. MR.

TURNQUIST, C. J. MR.

UHLER, D. G. DR.

VERKOSKI, J. E. MR.

VICCIONE, D. E. DR.

WELCH, B. S. MS.

WEYMAN, A. S. MR.

WHITON, H. W. RADM

WHITTEMORE, A. MS.

WILLIAMS, G. P. MR.

WILLIAMS, M. J. LTGEN

WRIGHT, J. W. DR.

YOUNT, G. R. RADM

ZEMAN, A. R. DR.

ZIMET, E. DR.

FOR FURTHER INFORMATION CONTACT: Ms. Carmen Arrowood, Office of the Assistant Secretary, Manpower and Reserve Affairs, 1000 Navy Pentagon, Washington, DC 20350-1000, telephone (703) 696-5165.

Dated: July 20, 2000.
J.L. Roth,
Lieutenant Commander, Judge Advocate General's Corps,, U.S. Navy, Federal Register Liaison Officer.

[FR Doc. 00-19020 Filed 7-26-00; 8:45 am]

BILLING CODE 3810-FF-P